INTERNATIONAL TRADE COMMISSION

[Investigation No. 337-TA-1119]

Certain Infotainment Systems, Components Thereof, and Automobiles Containing the Same: Institution of investigation

AGENCY: U.S. International Trade Commission.

ACTION: Notice.

SUMMARY: Notice is hereby given that a complaint was filed with the U.S. International Trade Commission on May 7, 2018, under section 337 of the Tariff Act of 1930, as amended, on behalf of Broadcom Corporation of San Jose, California. Supplements to the complaint were filed on May 18, 2018 and May 30, 2018. The complaint alleges violations of section 337 based upon the importation into the United States, the sale for importation, and the sale within the United States after importation of certain infotainment systems, component thereof, and automobiles containing the same by reason of infringement of U.S. Patent No. 6,937,187 (“the '187 patent”); U.S. Patent No. 8,902,104 (“the '104 patent”); U.S. Patent No. 7,512,752 (“the '752 patent”); U.S. Patent No. 7,530,027 (“the '027 patent”); U.S. Patent No. 8,284,844 (“the '844 patent”); and U.S. Patent No. 7,437,583 (“the '583 patent”). The complaint further alleges that an industry in the United States exists as required by the applicable Federal Statute.

The complainant requests that the Commission institute an investigation and, after the investigation, issue a limited exclusion order and cease and desist orders.

ADDRESSES: The complaint, except for any confidential information contained therein, is available for inspection during official business hours (8:45 a.m. to 5:15 p.m.) in the Office of the Secretary, U.S. International Trade Commission, 500 E Street SW, Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Katherine Hiner, The Office of Docket Services, U.S. International Trade Commission, telephone (202) 205-1802.

SUPPLEMENTARY INFORMATION:

Authority: The authority for institution of this investigation is contained in section 337 of the Tariff Act of 1930, as amended, 19 U.S.C. 1337 and in section 210.10 of the Commission's Rules of Practice and Procedure, 19 CFR 210.10 (2018).

Scope of investigation: Having considered the complaint, the U.S. International Trade Commission, on June 6, 2018, ordered that—

(1) Pursuant to subsection (b) of section 337 of the Tariff Act of 1930, as amended, an investigation be instituted to determine whether there is a violation of subsection (a)(1)(B) of section 337 in the importation into the United States, the sale for importation, or the sale within the United States after importation of products identified in paragraph (2) by reason of infringement of one or more of claims 1-10 of the '187 patent; claims 1, 2, 5-13, 15, and 16 of the '104 patent; claims 1-10 of the '752 patent; claims 11-20 of the '027 patent; claims 1-14 of the '844 patent; and claims 17-26 of the '583 patent; and whether an industry in the United States exists as required by subsection (a)(2) of section 337;

(2) Pursuant to section 210.10(b)(1) of the Commission's Rules of Practice and Procedure, 19 CFR 210.10(b)(1), the plain language description of the accused products or category of accused products, which defines the scope of the investigation, is “head units, rear seat entertainment units, units for displaying information or entertainment, and cameras, controllers, processing components, modules, chips, GNSS processing devices, and circuits used therein or therewith and automobiles that contain such infotainment systems and components”;

(3) For the purpose of the investigation so instituted, the following are hereby named as parties upon which this notice of investigation shall be served:

(a) The complainant is: Broadcom Corporation, 1320 Ridder Park Drive, San Jose, CA 95131.

(b) The respondents are the following entities alleged to be in violation of section 337, and are the parties upon which the complaint is to be served:

Toyota Motor Corporation, 1 Toyota-cho, Toyota City, Aichi Prefecture 471-8571, Japan

Toyota Motor North America, Inc., 6565 Headquarters Dr., Plano, TX 75024

Toyota Motor Sales, U.S.A., Inc., 6565 Headquarters Dr., Plano, TX 75024

Toyota Motor Engineering & Manufacturing North America, Inc., 6565 Headquarters Dr., Plano, TX 75024

Toyota Motor Manufacturing, Indiana, Inc., 4000 Tulip Tree Drive, Princeton, IN 47670

Toyota Motor Manufacturing, Kentucky, Inc., 25 Atlantic Avenue, Erlanger, KY 41018

Toyota Motor Manufacturing, Mississippi, Inc., 398 E Main Street, Tupelo, MS 38804

Toyota Motor Manufacturing, Texas, Inc., 1 Lone Star Pass, San Antonio, TX 78264

Panasonic Corporation, 1006, Oaza Kadoma, Kadoma-shi, Osaka 571-8501, Japan

Panasonic Corporation of North America, Two Riverfront Plaza, 828 McCarter Highway, Newark, NJ 07102

Denso Ten Limited, 2-28, Gosho-dori, 1-chome, Hyogo-ku, Kobe City, Japan

Denso Ten America Limited, 20100 Western Avenue, Torrance, CA 90501

Renesas Electronics Corporation, Toyosu Foresia 3-2-24 Toyosu, Koto-ku, Tokyo 135-0061, Japan

Renesas Electronics America, Inc., 1001 Murphy Ranch Road, Milpitas, CA 95035

Japan Radio Co., Ltd., Nakano Central Park East, 10-1, Nakano 4-chome, Nakano-ku, Tokyo 164-8570, Japan

(4) For the investigation so instituted, the Chief Administrative Law Judge, U.S. International Trade Commission, shall designate the presiding Administrative Law Judge.

The Office of Unfair Import Investigations will not be named as a party to this investigation.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: June 7, 2018.
Lisa Barton,
Secretary to the Commission.

[FR Doc. 2018-12609 Filed 6-11-18; 8:45 am]

BILLING CODE 7020-02-P